DEPARTMENT OF COMMERCE

National Oceanic and Atmospheric Administration

[RTID 0648-XA643]

Pacific Island Fisheries; Experimental Fishing Permit

AGENCY: National Marine Fisheries Service (NMFS), National Oceanic and Atmospheric Administration (NOAA), Commerce.

ACTION: Notice of application for experimental fishing permit; request for comments.

SUMMARY: The Hawaii Longline Association (HLA) has applied for an experimental fishing permit (EFP) to test the conservation and management usefulness of tori lines (bird scaring streamers) in the Hawaii deep-set longline fishery.

DATES: NMFS must receive comments by January 7, 2021.

ADDRESSES: You may submit comments on this document, identified by NOAA-NMFS-2020-0155, by either of the following methods:

• Electronic Submission: Submit all electronic public comments via the Federal e-Rulemaking Portal. Go to http://www.regulations.gov/#!docketDetail;D=NOAA-NMFS-2020-0155, click the “Comment Now!” icon, complete the required fields, and enter or attach your comments.

• Mail: Send written comments to Michael D. Tosatto, Regional Administrator, NMFS Pacific Islands Region (PIR), 1845 Wasp Blvd., Bldg. 176, Honolulu, HI 96818.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

You may review the EFP application at www.regulations.gov.

FOR FURTHER INFORMATION CONTACT: Sarah Ellgen, Sustainable Fisheries, NMFS Pacific Islands Regional Office, tel (808) 725-5173.

SUPPLEMENTARY INFORMATION: HLA applied for an EFP under the authority of the Magnuson-Stevens Fishery Conservation and Management Act and regulations at 50 CFR 665.17. HLA would test the use of tori lines in the Hawaii deep-set longline fishery, without using strategic offal discharge (discharging bait and fish offal) when seabirds are present or blue-dyed bait, both of which are normally required while deploying longline gear (setting) north of 23° N (50 CFR 665.815(a)(2)). If approved, the EFP would allow up to four stern-setting vessels to test tori lines north of 23° N. The EFP would be effective for no longer than one year from the date of issuance, unless earlier revoked, suspended, or modified.

Nearly all of the seabird interactions observed in the fishery are with black-footed and Laysan albatrosses. Interaction rates for both species are higher in the first and second quarters (January through June). Accordingly, the applicant would focus fishing effort during periods of higher seabird abundance, as practicable.

In 2017, the Western Pacific Fishery Management Council (Council) held a workshop to explore the cause of higher than typical fishery interactions with black-footed albatross. The workshop suggested that a positive (warm) Pacific Decadal Oscillation, with its cooler sea surface in the western Pacific and stronger westerly winds, may increase the overlap of fishing effort and black-footed albatross foraging grounds, leading to more seabird interactions in the fishery.

In 2018, the Council held a workshop to review seabird mitigation requirements and identify research needed to inform future fishing requirements to reduce interactions with seabirds. That workshop identified certain mitigation measures, including tori lines, as a high priority for further research and development due to their potential to provide an effective alternative to blue-dyed bait. Workshop participants also identified blue-dyed bait as a candidate for removal from the existing suite of seabird mitigation measures due to concerns with efficacy and practicality.

The Council recommended the EFP research at its September 2020 meeting, based on results from a cooperative research project conducted in 2019-2020. Results from that project had indicated that tori lines, when used in conjunction with blue-dyed bait, significantly reduced albatross feeding attempts and contact with longline gear. Project results also indicated the potential for offal discharge to increase bird interactions during gear setting. The project results led the Council to identify the need for additional research to test the effectiveness of tori lines without blue-dyed bait and strategic offal discharge.

With the exception of using tori lines without blue-dyed bait and strategic offal discharge, vessels participating under the EFP would carry out fishing operations consistent with conventional deep-set longline fishing targeting bigeye tuna, and would continue to employ all other required seabird mitigation measures, including weighted branch lines, line shooters, and safe handling practices.

HLA anticipates that fishing under the EFP would have similar environmental impacts on target fish species, non-target fish species, and non-seabird protected species to conventional deep-set fishing, and hypothesizes that seabird interaction rates for the tori line treatment sets would be lower. The EFP application provides additional information about these anticipated impacts.

Each vessel would carry an electronic monitoring system. A stern-mounted video camera would monitor the number of birds present, and seabird attacks and contacts, during gear setting. After a vessel returns to port, scientists would review the video recordings, and would verify seabird captures through logbook data.

At the completion of the project, EFP findings would be available to support Council decision-making about measures to reduce seabird interactions.

NMFS seeks comments on the proposed experimental activity. We will consider comments received when deciding whether to approve the permit, and whether to attach any additional terms and conditions.

Authority: 16 U.S.C. 1801 et seq.

Dated: December 3, 2020.
Jennifer M. Wallace,
Acting Director, Office of Sustainable Fisheries, National Marine Fisheries Service.

[FR Doc. 2020-26966 Filed 12-7-20; 8:45 am]

BILLING CODE 3510-22-P